DEPARTMENT OF DEFENSE

Office of the Secretary

[Transmittal No. 24-0N]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0N.

Dated: November 13, 2025.
Aaron T. Siegel,
Alternate OSD Federal Register Liaison Officer, Department of Defense.

Transmittal No. 24-0N

REPORT OF ENHANCEMENT OR UPGRADE OF SENSITIVITY OF TECHNOLOGY OR CAPABILITY (SEC. 36(B)(5)(C), AECA)

(i) Purchaser: Government of Australia

(ii) Sec. 36(b)(1), AECA Transmittal No.: 23-84

Date: December 1, 2023

Implementing Agency: Navy

(iii) Description: On December 1, 2023, Congress was notified by congressional notification transmittal number 23-84, of the possible sale, under Section 36(b)(1) of the Arms Export Control Act, of articles and services in support of the Trilateral AUKUS Pillar I program. Included were training devices, personnel training, planning, and Non-Recurring Engineering (NRE) services; support equipment; special tools; training software/and courseware; design; supply chain and industrial base support; facilities and construction support; publications and technical documentation; personnel training and training equipment; U.S. Government and contractor engineering, technical, and logistics support services; test and trials support; studies and surveys; other related elements of engineering, and repair services for associated equipment and program support; and other related elements of logistic and program support. U.S. training of private Australian industry personnel will occur only after explicitly authorized by the U.S. Department of State under U.S. law. The total estimated value was $2 billion. There was no Major Defense Equipment (MDE) associated with this sale.

This transmittal reports the addition of the following non-MDE items: planning analysis and proposed training requirements for military personnel, government civilians, and non-dual national contractors; and consultation, analysis, vendor support, design support, and additional efforts required by the Australian Submarine Agency (ASA) to sustain, operate, maintain, design, and build sovereign nuclear submarines. There is no MDE being reported with this notification, and as such the total MDE value remains $0. The total estimated cost of the new non-MDE is $145 million; however, this will not result in a net increase in the estimated total cost of non-MDE. The total case value remains $2 billion.

(iv) Significance: The proposed articles and services will support Australia to effectively maintain its force projection capability and enhances interoperability with U.S. forces well into the future.

(v) Justification: This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

(vi) Sensitivity of Technology: The highest level of classification of defense articles, components, and services included in this potential sale is SECRET.

(vii) Date Report Delivered to Congress: August 13, 2024

[FR Doc. 2025-20037 Filed 11-17-25; 8:45 am]

BILLING CODE 6001-FR-P